DEPARTMENT OF INTERIOR

National Park Service

Great Sand Dunes National Park Advisory Council Meeting

AGENCY: National Park Service, DOI.

ACTION: Announcement of meeting.

SUMMARY: Great Sand Dunes National Park and Preserve announces a meeting of the Great Sand Dunes National Park Advisory Council, which was established to provide guidance to the Secretary on long-term planning for Great Sand Dunes National Park and Preserve.

DATES: The meeting date is:

1. November 9, 2006, 10 a.m.-12 p.m., Mosca, Colorado.

ADDRESSES: The meeting location is:

1. Mosca, Colorado—Great Sand Dunes National Park and Preserve Visitor Center, 11999 Highway 150, Mosca, CO 81146.

FOR FURTHER INFORMATION CONTACT: Steve Chaney, 719-378-6312.

SUPPLEMENTARY INFORMATION: At the November 9 meeting, the National Park Service will focus on the changes made to the draft General Management Plan, Wilderness Study and EIS based on public comments and consultation. A public comment period will be held from 11:30 a.m. to 12 p.m.

Michael D. Snyder,
Regional Director.

[FR Doc. E6-17938 Filed 10-25-06; 8:45 am]

BILLING CODE 4312-CL-P